DEPARTMENT OF AGRICULTURE

Submission for OMB Review; Comment Request

February 14, 2011.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: National Management Information System (Wildlife Service).

OMB Control Number: 0579-0335.

Summary of Collection: The Animal and Plant Health Inspection Service (APHIS), Wildlife Services (WS), is a service program that responds to requests by persons and agencies needing help with wildlife damage. Assistance is available to all citizens upon request. The primary statutory authority for the APHIS/WS program is the Act of March 1931 (7 U.S.C. 426-426c; 46 Stat. 1468) as amended. Section 426 of the Act authorizes the Secretary of Agriculture to conduct a program of wildlife services with respect to injurious animal species and take any action the Secretary considers necessary in conducting the program. Information provided by customers in the WS programs is voluntary so that WS can prepare to help them. APHIS/WS will collect information using several forms.

Need and Use of the Information: Information collected in most situations is used in routine business communication activities by WS as part of its cooperative programs initiated by request from the public and government entities. The collected information from the forms will help WS modify and improve its programs to better fulfill mission objectives, suit the needs of Cooperators, and provide increasingly superior service.

Description of Respondents: Farms; Individuals or households; Business or other for-profit; Not-for-profit institutions; State, Local, or Tribal Government.

Number of Respondents: 89,902.

Frequency of Responses: Reporting: On occasion; Biennially; Annually.

Total Burden Hours: 4,165.

Ruth Brown,
Departmental Information Collection Clearance Officer.

[FR Doc. 2011-3667 Filed 2-17-11; 8:45 am]

BILLING CODE 3410-34-P